ENVIRONMENTAL PROTECTION AGENCY

[FRL-7966-1]

Science Advisory Board (SAB) Staff Office; Notification of an Upcoming Workshop and Meeting of the Science Advisory Board's Ecological Processes and Effects Committee (EPEC)

AGENCY: Environmental Protection Agency (EPA).

ACTION: Notice.

SUMMARY: The EPA Science Advisory Board (SAB) Staff Office announces a public workshop and meeting of the SAB Ecological Processes and Effects Committee (EPEC). The EPEC will hold a public workshop and meeting to evaluate the state-of-the-practice of ecological risk assessment. The workshop and meeting are open to the public, however, seating for the public will be limited and available on a first come basis to those who pre-register.

DATES: February 7-9, 2006. The SAB Ecological Processes and Effects Committee public workshop will convene at 8:30 a.m. on Tuesday, February 7, 2006 and adjourn at approximately 5 p.m. (Eastern Time) on Wednesday, February 8, 2006. The SAB EPEC will meet on Thursday, February 9, 2006 at 8:30 a.m. to develop proceedings of the workshop and adjourn at approximately 4 p.m. (Eastern Time).

ADDRESSES: The public workshop and meeting of the SAB EPEC will be held in the Washington, DC area at a location to be posted on the SAB Web site (www.epa.gov/sab).

FOR FURTHER INFORMATION CONTACT: Any member of the public wishing to attend the workshop must pre-register via e-mail or fax to Ms. Vickie Richardson, EPA Science Advisory Board Staff Office (1400F), U.S. Environmental Protection Agency, 1200 Pennsylvania Avenue, NW., Washington, DC 20460; telephone (202) 343-9978; Fax (202) 233-0643; or via e-mail at richardson.vickie@epa.gov, providing your name, title, organization, mailing address, phone, and e-mail. Members of the public wishing further information concerning the workshop and meeting may contact Dr. Thomas Armitage, Designated Federal Officer (DFO), U.S. EPA Science Advisory Board by telephone/voice mail at (202) 343-9995, fax at (202) 233-0643, by e-mail at armitage.thomas@epa.gov, or by mail at U.S. EPA SAB (1400F), 1200 Pennsylvania Ave., NW., Washington, DC 20460. General information about the SAB may be found on the SAB Web site, http://www.epa.sab.

SUPPLEMENTARY INFORMATION: Summary: Pursuant to the Federal Advisory Committee Act, Public Law 92-463, Notice is hereby given that the SAB Ecological Processes and Effects Committee will hold a public workshop and meeting to evaluate the state-of-the-practice of ecological risk assessment. The dates and times for the workshop and meeting are provided above.

Background: The ongoing growth of ecological risk assessment has prompted the SAB EPEC to undertake a project to develop information on the current state-of-the-practice of ecological risk assessment. The goal of the project is to evaluate ecological risk assessment practices and to provide advice and recommendations to EPA regarding ways to enhance the conduct and application of ecological risk assessment in environmental decision making. To complete this project, the SAB EPEC plans to hold a public workshop in order to develop information on: (1) Application of ecological risk assessment in decision making and (2) technical themes and issues regarding ecological risk assessment. EPEC will use the workshop proceedings to develop advice and recommendations to EPA. The workshop, focusing on application of ecological risk assessment in decision making, will be held at the dates and times indicated above. The workshop will include: SAB members and EPA staff on the workshop steering committee, members of the SAB Ecological Processes and Effects Committee, and invited EPA and outside experts in the field of ecological risk assessment. The workshop will begin with a series of plenary presentations focusing on the application of ecological risk assessment: in product health and safety decision-making, management of contaminated sites, and natural resources protection. Following the plenary presentations, participants will be assigned to breakout groups to discuss key cross-cutting issues in the application of ecological risk assessment in decision making. The workshop will conclude with the attendees identifying opportunities to advance the state-of-the-practice of ecological risk assessment for application in decision making. SAB EPEC will meet following the workshop at the time and date identified above to develop workshop proceedings.

Availability of Meeting Materials: A draft workshop agenda is posted on the SAB Web site (www.epa.gov/sab). An updated agenda will be posted prior to the workshop.

Procedures for Providing Public Comments: The SAB Staff Office accepts written public comments, and will accommodate oral public comments at the workshop to the extent possible.

Written Comments: Written comments are preferred and should be submitted by e-mail to Dr. Thomas Armitage at armitage.thomas@epa.gov in Adobe Acrobat, WordPerfect, Word, or Rich Text files in IBM-PC/Windows 98/2000/XP format) by January 30, 2006. Those without access to e-mail may submit one signed hard copy of the comments to Dr. Armitage by mail or courier. Commenters planning to attend the workshop in person are asked to bring 100 copies of their comments for public distribution.

Oral Comments: Requests to provide oral comments must be in writing (e-mail or fax) and received by Dr. Armitage no later than January 30, 2006 to reserve time on the workshop agenda. Presentation time for oral comment will typically be about five minutes per speaker, but may be reduced depending on time availability and the number of requests.

Meeting Accommodations: Individuals requiring special accommodation to access the workshop and public meeting listed above should contact the DFO at least five business days prior to the workshop and meeting so that appropriate arrangements can be made.

Dated: September 1, 2005.
Anthony Maciorowski,
Acting Director, EPA Science Advisory Board Staff Office.

[FR Doc. 05-17820 Filed 9-7-05; 8:45 am]

BILLING CODE 6560-50-P